INTERNATIONAL TRADE COMMISSION

[Investigation No. 337-TA-709]

In the Matter of Certain Integrated Circuits, Chipsets, and Products Containing Same Including Televisions, Media Players, and Cameras; Notice of Commission Determination Not To Review an Initial Determination Granting a Motion To Amend the Complaint and Notice of Investigation

AGENCY: U.S. International Trade Commission.

ACTION: Notice.

SUMMARY: Notice is hereby given that the U.S. International Trade Commission has determined not to review an initial determi nation (“ID”) (Order No. 10) issued by the presiding administrative law judge (“ALJ”) granting a motion filed by complainant Freescale Semiconductor, Inc. (“Freescale”) for leave to amend its complaint and the notice of investigation.

FOR FURTHER INFORMATION CONTACT: Paul M. Bartkowski, Office of the General Counsel, U.S. International Trade Commission, 500 E Street, SW., Washington, DC 20436, telephone (202) 708-5432. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on April 2, 2010, based on a complaint filed by Freescale Semiconductor of Austin, Texas (“Freescale”). 75 FR 16837-38. The complaint alleges violations of section 337 of the Tariff Act of 1930, as amended, 19 U.S.C. 1337, in the importation into the United States, the sale for importation, and the sale within the United States after importation of certain integrated circuits, chipsets, and products containing same including televisions, media players, and cameras by reason of infringement of certain claims of U.S. Patent Nos. 5,467,455; 5,715,014; and 7,199,306 (“the `306 patent”). The Commission's notice of investigation named numerous respondents (“Respondents”).

The ALJ issued the subject ID on July 8, 2010, granting a motion filed by complainant Freescale for leave to amend its complaint to (1) correct “clear typographical errors”; (2) replace one respondent whose counsel has represented that it does not sell for importation, import, or sell after importation any accused products; and (3) add a dependent claim of the `306 patent to the investigation. Respondents filed a petition for review of the ID. Freescale and the Commission investigative attorney filed responses in opposition to Respondents' petition. The Commission has determined not to review the subject ID.

The authority for the Commission's determination is contained in section 337 of the Tariff Act of 1930, as amended (19 U.S.C. 1337), and in part 210 of the Commission's Rules of Practice and Procedure (19 CFR part 210).

Issued: August 9, 2010.
By order of the Commission.
Marilyn R. Abbott,
Secretary to the Commission.

[FR Doc. 2010-19984 Filed 8-12-10; 8:45 am]

BILLING CODE 7020-02-P